DEPARTMENT OF DEFENSE

Defense Acquisition Regulations System

[Docket Number DARS-2022-0007; OMB Control Number 0704-0250]

Information Collection Requirement; Defense Federal Acquisition Regulation Supplement (DFARS); DFARS Part 242, Contract Administration and Related Clause in DFARS 252

AGENCY: Defense Acquisition Regulations System, Department of Defense (DoD).

ACTION: Notice.

SUMMARY: The Defense Acquisition Regulations System has submitted to OMB, for clearance, the following proposed revision and extension of a collection of information under the provisions of the Paperwork Reduction Act.

DATES: DoD will consider all comments received by July 18, 2022.

SUPPLEMENTARY INFORMATION:

Title and OMB Number: Defense Federal Acquisition Regulation Supplement (DFARS) Part 242; Contract Administration and Related Clause in DFARS 252; OMB Control Number 0704-0250.

Affected Public: Businesses or other for-profit and not-for-profit institutions.

Respondent's Obligation: Required to obtain or retain benefits.

Type of Request: Revision of a currently approved collection.

Frequency: On occasion.

Number of Respondents: 292.

Responses per Respondent: 1.

Annual Responses: 292.

Average Burden per Response: 475 hours.

Annual Burden Hours: 138,700.

Reporting Frequency: On Occasion.

Needs and Uses: The Government requires this information in order to perform its contract administration functions. The information required by DFARS contract clause 252.242-7004, Material Management and Accounting System, is used by contracting officers to determine if contractor material management and accounting systems conform to established DoD standards. DFARS clause 252.242-7004 requires a contractor to establish and maintain a material management and accounting system for applicable contracts, disclose significant changes in its system, provide results of system reviews, and respond to any determinations by the Government of significant deficiencies.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: https://www.regulations.gov. Follow the instructions for submitting comments.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2022-13127 Filed 6-16-22; 8:45 am]

BILLING CODE 5001-06-P